DEPARTMENT OF THE INTERIOR

Fish and Wildlife Service

50 CFR Part 22

RIN 1018-AT94

Protection of Bald Eagles; Definition; Extension of Public Comment Period

AGENCY: Fish and Wildlife Service, Interior.

ACTION: Proposed rule; extension of comment period.

SUMMARY: We, the U.S. Fish and Wildlife Service (the Service), are extending the comment for the proposed rule to establish a regulatory definition of “disturb” under the Bald and Golden Eagle Protection Act. We are also extending the comment period on the proposed rule re-opening the public comment period on the proposal to remove the bald eagle from the List of Threatened and Endangered Wildlife under the Endangered Species Act, and on the draft National Bald Eagle Management Guidelines, via two additional notices published separately in today's issue of the Federal Register. Comments previously submitted need not be resubmitted as they have been incorporated into the public record and will be fully considered in the final decision and rule.

DATES: The public comment period is extended to June 19, 2006. Any comments received after the closing date may not be considered in the final decision on the proposal.

ADDRESSES: You may submit comments and other information, identified by RIN 1018-AT94, by any of the following methods:

• Mail: Brian Millsap, Chief, Division of Migratory Bird Management, U.S. Fish and Wildlife Service, 4401 N. Fairfax Drive, MBSP-4107, Arlington, Virginia 22203. Attn: RIN 1018-AT94.

• Hand Delivery/Courier: Same address as above.

• E-mail: BaldEagle_ProposedRule@fws.gov. Include “RIN 1018-AT94” in the subject line of the message.

• Federal eRulemaking Portal: http://www.regulations.gov. Follow the instructions for submitting comments.

The complete file for this proposed rule is available for inspection, by appointment, during normal business hours at the Division of Migratory Bird Management, 4501 North Fairfax Drive, Room 4107, Arlington, Virginia 22203-1610. Please call 703-358-1714 to make an appointment to view the files.

FOR FURTHER INFORMATION CONTACT: Eliza Savage, Division of Migratory Bird Management, (see ADDRESSES section); or via e-mail at: Eliza_Savage@fws.gov; telephone: (703) 358-2329; or facsimile: (703) 358-2217.

SUPPLEMENTARY INFORMATION:

Background

On February 16, 2006, in anticipation of possible removal (delisting) of the bald eagle in the 48 contiguous States from the List of Endangered and Threatened Wildlife under the Endangered Species Act (ESA) (16 U.S.C. 1531 et seq.), the U.S. Fish and Wildlife Service (the Service) proposed a regulatory definition of “disturb” under the Bald and Golden Eagle Protection Act (BGEPA) to guide post-delisting bald eagle management (71 FR 8265). The Service concurrently proposed two other related actions: (1) a notice of availability of draft National Bald Eagle Management Guidelines (71 FR 8309, February 16, 2006); and (2) a re-opening of the comment period on our proposal to remove the bald eagle from the list of threatened and endangered species under the ESA (71 FR 8238, February 16, 2006). Due to the complexity of these related actions, we are extending the comment period for each action for an additional 30 days.

Authority

The authority for this action is the Bald and Golden Eagle Protection Act (16 U.S.C. 668-668d).

Dated: May 10, 2006.
Matt Hogan,
Acting Assistant Secretary for Fish and Wildlife and Parks.

[FR Doc. 06-4607 Filed 5-12-06; 1:17 pm]

BILLING CODE 4310-55-P